DEPARTMENT OF ENERGY

Energy Information Administration

Agency Information Collection Activities: Proposed Collection; Comment Request

AGENCY: Energy Information Administration (EIA), Department of Energy, (DOE).

ACTION: Agency information collection activities: proposed collection; comment request.

SUMMARY: The EIA is soliciting comments concerning proposed revisions and a three-year extension to December 31, 2004, for the Form EIA-767, “Steam-Electric Plant Operation and Design Report.”

DATES: Written comments must be filed on or before May 14, 2001. If you anticipate difficulty in submitting comments within that period, contact the person listed below as soon as possible.

ADDRESSES: Send comments to John G. Colligan, Energy Information Administration, Electric Power Division, EI-53.1, Forrestal Building, U.S. Department of Energy, Washington, DC 20585-0650. Alternatively, John Colligan may be contacted by telephone at (202) 287-1756 FAX at (202) 287-1934, or e-mail at jcolliga@eia.doe.gov.

FOR FURTHER INFORMATION CONTACT: Requests for additional information or copies of the form and instructions should be directed to John Colligan at the address listed above. The Form EIA-767 is available on EIA's web site: http://www.eia.doe.gov/fuelelectric.html.

SUPPLEMENTARY INFORMATION:

I. Background

II. Current Actions

III. Request for Comments

I. Background

The Federal Energy Administration Act of 1974 (Pub. L. No. 93-275, 15 U.S.C. 761 et seq.) and the DOE Organization Act (Pub. L. No. 95-91, 42 U.S.C. 7101 et seq.) require the EIA to carry out a centralized, comprehensive, and unified energy information program. This program collects, evaluates, assembles, analyzes, and disseminates information on energy resource reserves, production, demand, technology, and related economic and statistical information. This information is used to assess the adequacy of energy resources to meet near and longer term domestic demands.

The EIA, as part of its effort to comply with the Paperwork Reduction Act of 1995 (Pub. L. 104-13, 44 U.S.C. Chapter 35), provides the general public and other Federal agencies with opportunities to comment on collections of energy information conducted by or in conjunction with the EIA. Any comments received help the EIA to prepare data requests that maximize the utility of the information collected, and to assess the impact of collection requirements on the public. Also, the EIA will later seek approval by the Office of Management and Budget (OMB) of the collections under section 3507(a) of the Paperwork Reduction Act of 1995.

The Form EIA-767, “Steam-Electric Plant Operation and Design Report,” is a mandatory form filed annually by fossil-fueled steam-electric power generating plants with a combined nameplate rating of 50 (MW) or greater. The EIA-767 collects operational data from fossil and nuclear electric power plants. These data are compiled and published in several EIA publications.

II. Current Actions

The EIA will request OMB approval of: (a) A three-year extension of collection authority through December 31, 2004 and (b) the revisions described below. The proposed changes reflect the current highly competitive state of the electric power industry as a whole and the power generators in particular. EIA recognizes that its information collections must continue to adapt as the industry changes.

EIA has completed an extensive review and update of the electric power survey collection series. The form presented here is the result of that task which includes input from all sectors of the electric power industry. Electric generation and sales continue the trend toward open competition. The degree of competition is not uniform throughout the country at this time, but continues to grow sporadically, as reported by electric power data suppliers. With the increase in open competition among generators there is a corresponding need for protection from disclosure of individually-identifiable commercially sensitive information. Along with form changes, the EIA is proposing a revision to the commercially sensitive data elements collected on the Form EIA-767 which will be treated as confidential.

The Form EIA-767, “Steam-Electric Plant Operation and Design Report,” collects plant operational data. Form EIA-767 will be filed annually by all existing and planned fossil-fueled electric generating plants with a combined nameplate rating of 50 megawatts or greater. A significant change to this form is an increase in the reporting threshold from 10 megawatts to 50 megawatts. The frame of the EIA-767 has been extended to include both regulated and unregulated generators. Also, a new Schedule 4D, “Boiler Plant Information, Nitrogen Oxide Controls” was created in order for all respondents to provide nitrogen oxide control information on a single schedule. Items 1 and 2 of Schedule 4D were previously found on Schedule 4C, and were completed only by generators 100 megawatts and greater; Schedule 4D, items 3, 4a, 4b, and 5 are new data elements. As a result of these and other additions (one data element on Schedule 4A regarding analysis method for primary fuel type, and three data elements on Schedule 9 regarding exit temperature of flue gas), a total of 8 data elements were added. However, 28 data elements were deleted, resulting in an overall net reduction of approximately 20 elements on the Form EIA-767.

With regard to confidential treatment of information reported to EIA on the electric power surveys, EIA is proposing changes in what elements will be treated as confidential and not released in individually-identifiable form. As the level of generation competition increases, so does the concern for the disclosure of confidential data. EIA is aware of these concerns regarding full disclosure of trade secrets. EIA is continuously monitoring the industry through the electric power survey system. Following are the EIA-767 survey data elements that will be treated as confidential and will not be disclosed at the identifiable individual facility level. Elements that are currently treated as confidential by EIA on the Form EIA-767 are marked by asterisks. EIA is proposing additional confidential data elements which are listed below:

a—Planned equipment*, planned plant changes*, planned retirement dates*, and fuel projections*;

b—Heat rates*;

c—Fuel consumption;

d—Fuel quality;

e—Financial data;

f—Thermal output.

The EIA-767 form and instructions will address the specific data elements that will be treated as confidential.

III. Request for Comments

Prospective respondents and other interested parties should comment on the actions discussed in item II. The following guidelines are provided to assist in the preparation of comments.

General Issues

A. Is the proposed collection of information necessary for the proper performance of the functions of the agency and does the information have practical utility? Practical utility is defined as the actual usefulness of information to or for an agency, taking into account its accuracy, adequacy, reliability, timeliness, and the agency's ability to process the information it collects.

B. What enhancements can be made to the quality, utility, and clarity of the information to be collected?

As a Potential Respondent to the Request for Information

A. Are the instructions and definitions clear and sufficient? If not, which instructions need clarification?

B. Can the information be submitted by the due date?

C. Public reporting burden for this collection is estimated to average 83.16 hours per response, previous burden was 84.00 hours per response. In your opinion, how accurate is this estimate?

D. The agency estimates that the only cost to a respondent is for the time it will take to complete the collection. Will a respondent incur any start-up costs for reporting, or any recurring annual costs for operation, maintenance, and purchase of services associated with the information collection?

E. What additional actions could be taken to minimize the burden of this collection of information? Such actions may involve the use of automated, electronic, mechanical, or other technological collection techniques or other forms of information technology.

F. Does any other Federal, State, or local agency collect similar information? If so, specify the agency, the data element(s), and the methods of collection.

As a Potential User of the Information To Be Collected

A. Is the information useful at the levels of detail to be collected?

B. For what purpose(s) would the information be used? Be specific.

C. Are there alternate sources for the information and are they useful? If so, what are their weaknesses and/or strengths?

Comments submitted in response to this notice will be summarized and/or included in the request for OMB approval of the form. They also will become a matter of public record.

Statutory Authority: Section 3507(h)(1) of the Paperwork Reduction Act of 1995 (Pub. L. No. 104-13, 44 U.S.C. Chapter 35).

Issued in Washington, DC, March 7, 2001.
Jay H. Casselberry,
Agency Clearance Officer, Statistics and Methods Group, Energy Information Administration.

[FR Doc. 01-6138 Filed 3-12-01; 8:45 am]

BILLING CODE 6450-01-P